FEDERAL COMMUNICATIONS COMMISSION

Notice of Public Information Collection(s) Being Submitted for Review to the Office of Management and Budget

May 14, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 23, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via internet at Jasmeet_K._Seehra@omb.eop.gov and to Judith-B.Herman@fcc.gov, Federal Communications Commission, Room 1-B441, 445 12th Street, SW, DC 20554 or an e-mail to PRA@fcc.gov. If you would like to obtain or view a copy of this information collection after the 60 day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0950.

Title: Bidding Credits for Tribal Lands.

Form No.: N/A.

Type of Review: Extension of a currently approved collection.

Respondents: Business or other for-profit, not-for-profit institutions, and state, local or tribal government.

Number of Respondents: 3 respondents; 3 responses.

Estimated Time Per Response: 10-180 hours.

Frequency of Response: On occasion reporting and recordkeeping requirement.

Obligation to Respond: Required to obtain or retain benefits.

Total Annual Burden: 600 hours.

Total Annual Cost: $114,600.

Privacy Act Impact Assessment: N/A.

Nature and Extent of Confidentiality: No need for confidentiality.

Needs and Uses: The Commission will submit this collection as an extension (no change in reporting or recordkeeping requirements) to the OMB after this 60 day comment period to obtain the full three-year clearance from them.

The Commission adopted bidding credits for use by winning bidders who pledge facilities and provide service to federally-recognized tribal areas that have a telephone service penetration rate at or below 70 percent. In setting out the bidding credit, the Commission noted that communities on tribal lands have had less access to telecommunications services than any other segment of the U.S. population. For information collection purposes, a winning bidder credit to serve a qualifying tribal and within a particular market must indicate on the long-form application (FCC Form 601) that it intends to serve a qualifying tribal land within that market; within 180 days after the filing deadline for the long-form application, amend its long-form application to identify the tribal lands it intends to serve and attach a certification from the tribal government stating that: (1) The tribal government authorizes the winning bidder to site facilities and provide service on its tribal land; (2) the tribal area to be served by the winning bidder constitutes qualifying tribal land; (3) the tribal government has not and will not enter into an exclusive contract with the applicant precluding entry by other carriers, and will not unreasonably discriminate among wireless carriers seeking to provide on the qualifying tribal land; and (4) provide certification of the telephone penetration rates demonstrating that the tribal land has a penetration level at or below 70 percent.

Also, each winning bidder must within 180 after the filing deadline for the FCC Form 601, certify by endorsing the Schedule B of the FCC Form 601, that it will comply with the build-out requirements and consult with the tribal government regarding the location of the facilities and deployment of service on the tribal land; within 15 days of the third anniversary of the initial grant of its license, file a notification (Schedule K of the FCC Form 601) that it has constructed and is operating a system capable of serving 75 percent of the population of the qualifying tribal land for which the credit was awarded; and repay within 30 days of the third anniversary of the initial grant of its license, the bidding credit amount in its entirety, plus interest, if it fails to provide the post-construction notification (Schedule K of the FCC Form 601) required by 47 CFR 1.2110(f)(3)(vi).

In addition, a winning bidder seeking a credit in excess of the amount calculated under the Commission's bidding credit formula must: (1) Submit a waiver request demonstrating that the infrastructure costs exceed the amount of the standard bidding credit; and (2) include a certification by an independent auditor that the estimated costs are reasonable. A winning bidder receiving a higher credit must within 15 days of the third anniversary of the initial license grant, file a certification that the credit amount was spent on infrastructure to provide wireless coverage to qualifying tribal lands, which also includes a final report prepared by an independent auditor verifying that the infrastructure costs are reasonable to comply with the Commission's build-out requirements.

The Commission believes that the lack of telecommunications services puts affected tribal communities at a social and economic disadvantage. This information will be used to ensure that tribal communities within federally-recognized tribal areas have access to wireless telecommunications services equivalent to that of the nation.

Federal Communications Commission.
Marlene H. Dortch,
Secretary.

[FR Doc. E7-9918 Filed 5-22-07; 8:45 am]

BILLING CODE 6712-01-P